DEPARTMENT OF THE INTERIOR

Bureau of Land Management

[LLNV912000L10200000.PH0000LXSS006F0000;MO#4500141205]

Notice of Public Meeting: Sierra Front-Northwestern Great Basin Resource Advisory Council, Nevada

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Sierra Front-Northwestern Great Basin Resource Advisory Council (RAC), will hold a meeting in Winnemucca, Nevada. The meeting is open to the public.

DATES: The meeting will be held on Thursday, March 5, 2020, from 8 a.m. to 4:30 p.m. However, the meeting could end earlier if discussions and presentations conclude before 4:30 p.m. The meeting will include two public comment periods at approximately 8:05 a.m. and 3:45 p.m.

ADDRESSES: The meeting will be held at the Winnemucca BLM Office, 5100 East Winnemucca Blvd., Winnemucca, Nevada. Comments may also be submitted by email to lross@blm.gov with the words “SFNWGB RAC Feb. 2020 Comment” in the subject line. Written comments should be sent to the following address and be received no later than February 18, 2020: SFNWGB RAC Feb. 2020 Comment, Attention: Lisa Ross, 5665 Morgan Mill Road, Carson City, NV 89703.

FOR FURTHER INFORMATION CONTACT: Lisa Ross by telephone at (775) 885-6107, or by email at lross@blm.gov. Persons who use a telecommunications device for the deaf (TDD) may call the Federal Relay Service (FRS) at 1-800-877-8339 to contact Ms. Ross during normal business hours. The FRS is available 24 hours a day, 7 days a week, to leave a message or question. You will receive a reply during normal business hours.

SUPPLEMENTARY INFORMATION: The 15-member RAC advises the Secretary of the Interior, through the BLM Nevada State Director, on a variety of planning and management issues associated with public land management in Nevada. Agenda topics include wildfire update/use of Emergency Stabilization & Rehabilitation Funds, the 2019 Burning Man event, wild horses and burros, sage grouse, the Winnemucca Sand Dunes Recreation Area Management Plan, and District managers' updates.

Individuals who plan to attend and need further information about the meeting or need special assistance such as sign language interpretation or other reasonable accommodations may contact Lisa Ross at the phone number or email address listed in the FOR FURTHER INFORMATION CONTACT section.

Before including your address, phone number, email address, or other personal identifying information in your comments, please be aware that your entire comment, including your personal identifying information, may be made publicly available at any time. While you can ask us in your comment to withhold your personal identifying information from public review, we cannot guarantee that we will be able to do so.

Colleen Dulin,
District Manager, Carson City District, Designated Federal Officer.

[FR Doc. 2020-00968 Filed 1-21-20; 8:45 am]

BILLING CODE 4310-HC-P